DEPARTMENT OF COMMERCE

National Oceanic and Atmospheric Administration

RIN 0648-XD678

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Committee to consider actions affecting New England fisheries in the exclusive economic zone (EEZ). Recommendations from this group will be brought to the full Council for formal consideration and action, if appropriate.

DATES: This meeting will be held on Friday, January 16, 2015 at 9:30 a.m.

ADDRESSES: Meeting address: The meeting will be held at the Sheraton Harborside, 250 Market Street, Portsmouth, NH 03801; telephone: (603) 431-2300; fax: (603) 431-7805.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The items of discussion on the agenda are:

The committee will receive a report from the January 15, 2015 Herring Advisory Panel (AP) meeting and consider the AP recommendations. The committee will also review Action Plans for the 2016-2018 Atlantic herring fishery specifications and an amendment to the Atlantic Herring FMP to consider control rules for the Atlantic herring fishery that account for herring's role as forage in the ecosystem (Amendment 8). They plan to discuss possible cooperative research priorities for any research set-aside that may be allocated in 2016-18 during the Atlantic herring fishery specifications process and develop Committee recommendations. They will also review/approve a draft scoping document for an amendment to the Herring FMP to consider control rules for the Atlantic herring fishery that account for herring's role as forage in the ecosystem. The committee will review/discuss options under consideration in the NMFS-led omnibus Industry-Funded Monitoring Amendment to address observer coverage on Atlantic herring vessels and develop Committee recommendations. The committee will discuss other business as necessary.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

The meeting is physically accessible to people with disabilities. Requests for sign language interpretation or other auxiliary aids should be directed to Thomas A. Nies, Executive Director, at (978) 465-0492, at least 5 days prior to the meeting date.

Authority: 16 U.S.C. 1801 et seq.

Dated: December 22, 2014.
Tracey L. Thompson,
Acting Deputy Director, Office of Sustainable Fisheries, National Marine Fisheries Service.

[FR Doc. 2014-30306 Filed 12-24-14; 8:45 am]

BILLING CODE 3510-22-P